ENVIRONMENTAL PROTECTION AGENCY

[FRL-7391-2]

Ross Metals, Inc., Superfund Site, Notice of Proposed De Minimis Settlement

AGENCY: Environmental Protection Agency.

ACTION: Notice of proposed de minimis settlement.

SUMMARY: Under section 122(g)(4) of the Comprehensive Environmental Response, Compensation and Liability Act (CERCLA), the U.S. Environmental Protection Agency (EPA) has offered a de minimis settlement at the Ross Metals, Inc., Superfund Site (Site) located in Rossville, Tennessee, under an Administrative Order on Consent (AOC) to settle claims for past and future response costs at the Site. Twenty-nine (29) parties have returned signature pages accepting EPA's settlement offer. For thirty (30) days following the publication of this notice, EPA will receive written comments relating to the settlement. EPA may withdraw from or modify the proposed settlement should such comments disclose facts or considerations which indicate the proposed settlement is inappropriate, improper, or inadequate. Copies of the proposed settlement are available from: Ms. Paula V. Batchelor, U.S. Environmental Protection Agency—Region 4, CERCLA Program Services Branch, Waste Management Division, 61 Forsyth Street, SW., Atlanta, Georgia 30303, (404) 562-8887.

Written comments may be submitted to Mr. Ray Strickland at the above address within 30 days of the date of publication.

Dated: September 26, 2002.
Anita L. Davis,
Acting Chief, CERCLA Program Services Branch, Waste Management Division.

[FR Doc. 02-25419 Filed 10-4-02; 8:45 am]

BILLING CODE 6560-50-P